DEPARTMENT OF ENERGY

Federal Energy Regulatory Commission

[Project No. 3342-025]

Briar Hydro Associates, LLC; Notice of Application Ready for Environmental Analysis and Soliciting Comments, Recommendations, Terms and Conditions, and Prescriptions

Take notice that the following hydroelectric application has been filed with the Commission and is available for public inspection.

a. Type of Application: New License.

b. Project No.: 3342-025.

c. Date Filed: November 30, 2022.

d. Applicant: Briar Hydro Associates.

e. Name of Project: Penacook Lower Falls Hydroelectric Project.

f. Location: On the Contoocook River, in City of Concord, and Town of Boscawen, Merrimack County, New Hampshire.

g. Filed Pursuant to: Federal Power Act 16 U.S.C. 791(a)-825(r).

h. Applicant Contact: Andrew J. Locke, Essex Hydro Associates, LLC, 55 Union Street, Boston, MA 02108; (617) 357-0032; or alocke@essexhydro.com.

i. FERC Contact: Jeanne Edwards at (202) 502-6181; or jeanne.edwards@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Penacook Lower Falls Project (P-3342-025).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The Penacook Lower Falls Project consists of the following facilities: (1) an impoundment with a surface area of 8.4-acres at an elevation of 278.6 feet National Geodetic Vertical Datum 1929; (2) a concrete dam with a 15-foot-long, 70-foot-wide forebay, a 106-foot-long, gated spillway, a 316-foot-long auxiliary spillway, and a 140-foot-long, gated diversion structure; (3) a 23.3-foot-long, 46.1-foot-high trash rack with a 3.625-inch clear spacing; (4) a 35-foot-wide by 97.5-foot-long concrete powerhouse, integral with the spillway, containing one Kaplan style turbine-generator unit with a capacity of 4.6 megawatts; (5) a 700-foot-long, 45-foot wide tailrace; (6) transmission facilities consisting of a 4.16/34.5 kilovolt (kV) transformer and 200-foot-long, 34.5-kV transmission line; and (7) other appurtenances.

The project operates in a run-of-river mode. The project had an average annual generation of 20,198,820 kWh kilowatt-hours between 2012 and 2021. No changes in the project operation are proposed.

m. Copies of the application may be viewed on the Commission's website at http://www.ferc.gov using the “eLibrary” link. Enter the docket number excluding the last three digits in the docket number field to access the document (P-3342). For assistance, contact FERC Online Support at FERCOnlineSupport@ferc.gov or call toll-free, (866) 208-3676 or (202) 502-8659 (TTY).

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

n. The applicant must file no later than 60 days following the date of issuance of this notice: (1) a copy of the water quality certification; (2) a copy of the request for certification, including proof of the date on which the certifying agency received the request; or (3) evidence of waiver of water quality certification.

o. Procedural schedule: The application will be processed according to the following schedule. Revisions to the schedule will be made as appropriate.

Milestone | Target date
Deadline for Filing Comments, Recommendations, and Agency Terms and Conditions/Prescriptions | August 2024.
Licensee's Reply to REA Comments | October 2024.

Dated: June 20, 2024.
Debbie-Anne A. Reese,
Acting Secretary.

[FR Doc. 2024-14046 Filed 6-26-24; 8:45 am]

BILLING CODE 6717-01-P